DEPARTMENT OF ENERGY

Federal Energy Regulatory Commission

Combined Notice of Filings

Take notice that the Commission has received the following Natural Gas Pipeline Rate and Refund Report filings:

Docket Numbers: RP21-1010-000.

Applicants: Equitrans, L.P.

Description: § 4(d) Rate Filing: Negotiated Rate Capacity Release Agreements—8/1/2021 to be effective 8/1/2021.

Filed Date: 8/2/21.

Accession Number: 20210802-5011.

Comments Due: 5 p.m. ET 8/16/21.

Docket Numbers: RP21-1012-000.

Applicants: Eastern Gas Transmission and Storage, Inc.

Description: § 4(d) Rate Filing: EGTS—August 2, 2021 Nonconforming Service Agreements to be effective 10/1/2021.

Filed Date: 8/2/21.

Accession Number: 20210802-5012.

Comments Due: 5 p.m. ET 8/16/21.

Docket Numbers: RP21-1013-000.

Applicants: Enable Gas Transmission, LLC.

Description: § 4(d) Rate Filing: Negotiated Rate Filing—July 1, 2021 Ternium to be effective 8/1/2021.

Filed Date: 8/2/21.

Accession Number: 20210802-5042.

Comments Due: 5 p.m. ET 8/16/21.

Docket Numbers: RP21-1014-000.

Applicants: Rover Pipeline LLC.

Description: § 4(d) Rate Filing: Summary of Negotiated Rate Capacity Release Agreements on 8-2-21 to be effective 8/1/2021.

Filed Date: 8/2/21.

Accession Number: 20210802-5077.

Comments Due: 5 p.m. ET 8/16/21.

Docket Numbers: RP21-1015-000.

Applicants: Inflection Energy LLC, JPMorgan Chase Bank, N.A.

Description: Joint Petition for Limited Waiver of Capacity Release Regulations, et al. of Inflection Energy LLC, et al.

Filed Date: 8/2/21.

Accession Number: 20210802-5167.

Comments Due: 5 p.m. ET 8/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2021.
Debbie-Anne A. Reese,
Deputy Secretary.

[FR Doc. 2021-17026 Filed 8-9-21; 8:45 am]

BILLING CODE 6717-01-P